DEPARTMENT OF ENERGY

Federal Energy Regulatory Commission

[Docket Nos. CP04-379-000, CP04-380-000, and CP04-381-000]

Pine Prairie Energy Center, LLC; Notice of Intent To Prepare an Environmental Assessment for the Proposed Pine Prairie Energy Center, Request for Comments on Environmental Issues, and Site Visit

August 6, 2004.

The staff of the Federal Energy Regulatory Commission (FERC or Commission) will prepare an environmental assessment (EA) that will discuss the environmental impacts of the Pine Prairie Energy Center involving construction and operation of facilities by Pine Prairie Energy Center, LLC (Pine Prairie) in Evangeline, Acadia, and Rapides Parishes, Louisiana. These facilities would consist of approximately 21.47 miles of new 24-inch gas pipeline, 3 underground gas storage caverns, a compressor station with 48,000 horsepower of compression, 6 pipeline meter facilities and 7 pipeline interconnects. The EA will be used by the Commission in its decision-making process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice Pine Prairie provided to landowners. This fact sheet addresses a number of typically asked questions, including the use of eminent domain and how to participate in the Commission's proceedings. It is available for viewing on the FERC Internet Web site (http://www.ferc.gov).

Summary of the Proposed Project

Pine Prairie proposes to construct and operate the Pine Prairie Energy Center in Evangeline, Acadia, and Rapides Parishes, Louisiana. The proposal includes construction and operation of 3 solution-mined underground salt storage caverns, associated aboveground facilities, and connecting pipelines for the storage of up to 24.0 billion cubic feet (Bcf) of natural gas. The proposed and existing pipelines would connect the storage facility to ANR Pipeline Company, Florida Gas Transmission Company, Tennessee Gas Pipeline Company, Texas Eastern Transmission, L.P., Texas Gas Transmission LLC (Texas Gas) and Transcontinental Gas Pipe Line Corporation. Specifically, Pine Prairie seeks authority to construct and operate:

• A 60 acre gas storage site consisting of three underground salt dome storage caverns of 8 Bcf storage capacity each;

• A gas handling facility consisting of a compressor building with six 8,000 horsepower gas engine driven reciprocating compressors, dehydration facilities, and attendant control buildings and equipment;

• A brine disposal and raw water withdrawal site located on 10 acres of land. The site will include 4 withdrawal wells to obtain water to solution mine the storage caverns and 4 injection wells to dispose of the brine;

• The Mid Pipeline Corridor, consisting of 6.36 miles of dual 24-inch natural gas pipeline originating from the Gas Handling Facility to the Chalk Gathering System, an existing 24-inch natural gas pipeline;

• A service corridor containing 1.92 miles of dual 16-inch water pipelines will be collocated between the Gas Handling Facility and the brine disposal and raw water disposal site;

• The North Pipeline Corridor, consisting of 17.80 miles of the Chalk system north of the Mid Pipeline Corridor and will extent through Evangeline Parish into Rapides Parish;

• The South Pipeline Corridor, consisting of 16.49 miles of the Chalk system south of the Mid Pipeline Corridor extending through Evangeline Parish into Acadia Parish which would be looped with the installation of 11.24 miles of 24-inch natural gas pipeline;

• The TGT Lateral Pipeline Corridor, extending from the South Pipeline Corridor to the Texas Gas Interconnect, consisting of 0.7 mile of dual 24 inch natural gas pipeline;

• The East Lateral Pipeline Corridor, extending from the South Pipeline Corridor to the interconnect with Florida Gas Transmission, consisting of 3.17 miles of 24-inch natural gas pipeline; and

• A total of 6 meter stations would be constructed along with 7 pipeline interconnections and 5 contractor yards of approximately 10 acres each.

The general location of the project facilities is shown in appendix 1.¹ If you are interested in obtaining detailed maps of a specific portion of the project, send in your request using the form in appendix 3.

¹ The appendices referenced in this notice are not being printed in the Federal Register. Copies of all appendices, other than appendix 1 (maps), are available on the Commission's Web site at the “eLibrary” link or from the Commission(s Public Reference Room, 888 First Street, NE., Washington, DC 20426, or call (202) 502-8371. For instructions on connecting to eLibrary refer to the last page of this notice. Copies of the appendices were sent to all those receiving this notice in the mail.

Land Requirements for Construction

Construction of the proposed facilities would require about 383.1 acres of land. Following construction, about 59.5 acres would be maintained as new aboveground facility sites. The remaining 323.6 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

Our independent analysis of the issues will be in the EA. Depending on the comments received during the scoping process, the EA may be published and mailed to Federal, State and local agencies, public interest groups, interested individuals, affected landowners, newspapers, libraries, and the Commission's official service list for this proceeding. A comment period will be allotted for review if the EA is published. We will consider all comments on the EA before we make our recommendations to the Commission.

In the EA we ² will discuss impacts that could occur as a result of the construction and operation of the proposed project under these general headings:

² “We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate reasonable alternatives to the proposed project or portions of the project, and make recommendations on how to lessen or avoid impacts on the various resource areas.

To ensure your comments are considered, please carefully follow the instructions in the public participation section below.

Currently Identified Environmental Issues

We have already identified several issues that we think deserve attention based on a preliminary review of the proposed facilities and the environmental information provided by Pine Prairie. This preliminary list of issues may be changed based on your comments and our analysis.

• Brine disposal and raw water withdrawal from aquifers.

• Wetland impacts along the pipeline corridor.

• Air and noise quality impacts from operation of the compressor facility.

• Storage cavern and well casing integrity management.

Public Participation

You can make a difference by providing us with your specific comments or concerns about the project. By becoming a commentor, your concerns will be addressed in the EA/EIS and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP04-379-000, et al.

• Mail your comments so that they will be received in Washington, DC on or before September 7, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (appendix 4). If you do not return the Information Request, you will be taken off the mailing list.

The environmental staff of the Federal Energy Regulatory Commission will perform a site visit of the proposed facility locations. Anyone interested in participating in the field trip may attend, but they must provide their own transportation. The meeting location prior to the site visit is as follows:

Time/date | Meeting location | Facility locations
9 a.m., Thursday, August 19, 2004 | The Pine Cone, 1017 Elm St., Pine Prairie, LA 70576 | Gas handling facility, brine disposal and raw water withdrawal site, and Mid Pipeline Corridor.
9 a.m., Friday, August 20, 2004 | The Pine Cone, 1017 Elm St., Pine Prairie, LA 70576 | East Lateral, TGT Lateral, Meter and Regulator Sites.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of any filing to the Secretary of the Commission, and must send a copy of its filings to all other parties on the Commission's service list for this proceeding. If you want to become an intervenor you must file a motion to intervene according to Rule 214 of the Commission(s Rules of Practice and Procedure (18 CFR 385.214) (see appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-1785 Filed 8-11-04; 8:45 am]

BILLING CODE 6717-01-P